ENVIRONMENTAL PROTECTION AGENCY

40 CFR Part 180

[EPA-HQ-OPP-2011-0082; FRL-8884-9]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before September 26, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 1E7823. (EPA-HQ-OPP-2011-0113). Taminco, Inc., Two Windsor Plaza, Suite 411, Allentown, PA, requests to establish a tolerance in 40 CFR part 180 for residues of the fungicide thiram, in or on avocado at 8 parts per million (ppm). Detection and quantitation for thiram (as carbon disulfide (CS2)) were conducted using a gas chromatograph (GC) equipped with a mass spectral detector for determination of CS2. The limit of quantitation (LOQ) was 0.05 ppm reported CS2 evolved. Contact: Shaunta Hill, (703) 347-8961, e-mail address: hill.shaunta@epa.gov.

2. PP 1E7882. (EPA-HQ-OPP-2011-0569). Interregional Research Project Number 4 (IR-4), 500 College Rd. East, Suite 201W, Princeton, NJ 08540, requests to establish tolerances in 40 CFR part 180 for residues of the herbicide clopyralid: (3,6-dichloro-2-pyrindinecarboxylic acid), in or on apple at 0.05 ppm; brassica, leafy greens, subgroup 5B at 5.0 ppm; rapeseed subgroup 20A, except gold of pleasure, seed at 3.0 ppm; rapeseed subgroup 20A, except gold of pleasure, meal at 6.0 ppm; and rapeseed subgroup 20A, except gold of pleasure, forage at 3.0 ppm. An adequate analytical method is available for enforcement of the tolerance expression in or on these commodities. Dow AgroSciences Method No. ACR 79.5 was utilized to determine residues of clopyralid in apples, fruits and apple fractions in support of the proposed tolerance. This method determines clopyralid as the methyl ester by gas chromatography using electron capture detection (GC/ECD). This method has been successfully validated by EPA and has been published in FDA's Pesticide Analytical Manual, Volume II (PAM II). Contact: Laura Nollen, (703) 305-7390, e-mail address: nollen.laura@epa.gov.

3. PP 1E7883. (EPA-HQ-OPP-2011-0563). Interregional Research Project Number 4 (IR-4), 500 College Rd. East, Suite 201W, Princeton, NJ 08540, requests to establish tolerances in 40 CFR part 180 for residues of the herbicide rimsulfuron: N-((4,6-dimethoxypyrimidin-2-yl) aminocarbonyl)-3-(ethylsulfonyl)-2-pyridinesulfonamide, in or on chicory, roots at 0.01 ppm and chicory, tops at 0.01 ppm. Adequate analytical methodology, high-pressure liquid chromatography (HPLC) with electrospray ionization-tandem mass spectrometry (ESI-MS/MS) detection, is available for enforcement purposes. Contact: Andrew Ertman, (703) 308-9367, e-mail address: ertman.andrew@epa.gov.

4. PP 1E7885. (EPA-HQ-OPP-2011-0564). Interregional Research Project Number 4 (IR-4), 500 College Rd. East, Suite 201W, Princeton, NJ 08540, requests to establish tolerances in 40 CFR part 180 for residues of the herbicide thifensulfuron methyl [Methyl-3-[[[[(4-methoxy-6-methyl-1,3,5-triazin-2-yl) amino]carbonyl]amino] sulfonyl]-2-thiophenecarboxylate], in or on chicory, roots at 0.01 ppm and chicory, tops at 0.01 ppm, for each analyte. Adequate analytical methodology, HPLC with ESI-MS/MS detection, is available for enforcement purposes. Contact: Andrew Ertman, (703) 308-9367, e-mail address: ertman.andrew@epa.gov.

5. PP 0F7805. (EPA-HQ-OPP-2010-1079). Syngenta Crop Protection, Inc., Syngenta Crop Protection, Inc., P.O. Box 18300, Greensboro, NC 27419, requests to establish tolerances in 40 CFR part 180 for residues of the insecticide thiamethoxam [3-[(2-chloro-5-thiazolyl)methyl]tetrahydro-5-methyl-N-nitro-4H-1,3,5-oxadiazin-4-imine] (CAS Reg. No. 153719-23-4) and its metabolite [N-(2-chloro-thiazol-5-ylmethyl)-N'-methyl-N'-nitro-guanidine], in or on buckwheat, grain at 0.02 ppm; buckwheat, forage at 0.50 ppm; buckwheat, hay at 0.02 ppm; buckwheat, straw at 0.02 ppm; oat, grain at 0.02 ppm; oat, forage at 0.50 ppm, oat, hay at 0.02 ppm; oat, straw at 0.02 ppm; pearl millet, grain at 0.02 ppm; pearl millet, forage at 0.02 ppm; pearl millet, stover at 0.02 ppm; proso millet, grain at 0.02 ppm; proso millet, forage at 0.02 ppm; proso millet, stover at 0.02 ppm; proso millet, straw at 0.02 ppm; rye, grain at 0.02 ppm; rye, forage at 0.50 ppm; rye, straw at 0.02 ppm; teosinte, grain at 0.02 ppm; teosinte, forage at 0.10 ppm; teosinte, stover at 0.05 ppm; triticale, grain at 0.02 ppm; triticale, forage at 0.05 ppm; triticale, hay at 0.02 ppm; triticale, straw at 0.02 ppm; wild rice, grain at 0.02 ppm. This revised Notice of Filing is an amendment to reflect specific proposed grain tolerance and their respective animal feed commodities listed in the revised Section F of the tolerance petition, PP0F7805. Syngenta Crop Protection, Inc. has submitted practical analytical methodology for detecting and measuring levels of thiamethoxam in or on raw agricultural commodities. This method is based on crop specific cleanup procedures and determination by liquid chromatography with either ultraviolet (UV) or MS detections. Contact: Gene Benbow, (703) 347-0235, e-mail address: benbow.gene@epa.gov.

6. PP 1F7873. (EPA-HQ-OPP-2011-0578). E. I. du Pont de Nemours and Company, 1007 Market St., Wilmington, DE 19898-0001, requests to establish tolerances in 40 CFR part 180 for residues of the combined residues of the insecticide indoxacarb, [(S)-methyl-7-chloro-2,5-dihydro-2-[[(methoxycarbonyl) [4-(trifluoromethoxy)-phenyl]amino]carbonyl]indeno[1,2e] [1,3,4]oxadiazine-4a(3H)-carboxylate], its R-enantiomer [(R)-methyl 7-chloro-2,5-dihydro-2-[[(methoxycarbonyl) [4-(trifluoromethoxy) phenyl]amino]carbonyl]indeno [1,2-e] [1,3,4] oxadiazine-4a(3H)-carboxylate] and the metabolites:

• IN-JT333: Methyl 7-chloro-2,5-dihydro-2-[[[4-(trifluoromethoxy)phenyl]-amino]carbonyl]indeno[1,2-e][1,3,4]oxadiazine-4a(3H)-carboxylate

• IN-KT319: (E)-methyl 5-chloro-2,3,-dihydro-2-hydroxy-1-[[[(methoxycarbonyl)[4-(trifluoromethoxy)phenyl]amino]-carbonyl]hydrazono]-1H-indene-2-carboxylate

• IN-JU873: Methyl 5-chloro-2,3-dihydro-2-hydroxy-1-[[[[4-(triflurormethoxy)-phenyl]amino]carbonyl]hydrazono]-1H-indene-2-carboxylate

• IN-KG433: Methyl 5-chloro-2,3,-dihydro-2-hydroxy-1-[[[(methoxycarbonyl)[4-(trifluoromethoxy)phenyl]amino]carbonyl]-hydrazono]-1H-indene-2-carboxylate, and

• IN-KB687: Methyl [4-(trifluoromethoxy)phenyl]carbamate, in or on egg at 0.2 ppm; poultry, fat at 0.2 ppm; poultry, meat at 0.06 ppm; and poultry, meat byproducts at 0.06 ppm. The plant residue enforcement method detects and quantitates indoxacarb in various matrices including sweet corn, lettuce, tomato, broccoli, apple, grape, cottonseed, tomato, peanut, and soybean commodity samples by HPLC UV. The limit of quantitation in the method allows monitoring of crops with indoxacarb residues at or above the levels proposed in these tolerances. Contact: Julie Chao, (703) 308-8735, e-mail address: chao.julie@epa.gov.

7. PP 1F7886. (EPA-HQ-OPP-2011-0593). Valent U.S.A. Corporation, 1600 Riviera Ave., Suite 200, Walnut Creek, CA 94596, requests to establish a tolerance in 40 CFR part 180 for residues of the herbicide flumioxazin, 2-[7-fluoro-3,4-dihydro-3-oxo-4-(2-propynyl)-2H-1,4-benzoxazin-6-yl]-4,5,6,7-tetrahydro-1H-isoindole-1,3(2H)-dione, in or on pea and bean (except soybean), dried shelled, crop subgroup 6C at 0.1 ppm for seed; rapeseed, crop subgroup 20A at 0.35 ppm for seed; rapeseed, crop subgroup 20A at 0.04 ppm for meal; and rapeseed, crop subgroup 20A at 0.02 ppm for refined oil; sunflower, crop subgroup 20B at 0.5 ppm for seed; sunflower, crop subgroup 20B at 0.03 ppm for meal; sunflower, crop subgroup 20B at 0.02 ppm for refined oil; wheat at 0.35 ppm for grain; wheat at 5 ppm for straw; wheat at 0.02 ppm for forage (pre-emergence); wheat at 0.02 ppm for hay (pre-emergence); wheat at 0.35 ppm for bran; wheat at 0.05 ppm for flour; wheat at 0.35 ppm for germ; wheat at 0.08 ppm for middlings; wheat at 0.11 ppm for shorts; and wheat at 110 ppm for aspirated grain fractions. Practical analytical methods for detecting and measuring levels of flumioxazin have been developed and validated in/on all appropriate agricultural commodities and respective processing fractions. The LOQ of flumioxazin in the methods is 0.02 ppm which will allow monitoring of food with residues at the levels proposed for the tolerances. Contact: Bethany Benbow, (703) 347-8072, e-mail address: benbow.bethany@epa.gov.

Amended Tolerance

1. PP 1E7882. (EPA-HQ-OPP-2011-0569). Interregional Research Project Number 4 (IR-4), 500 College Rd. East, Suite 201W, Princeton, NJ 08540, requests to remove the tolerances in 40 CFR 180.431 for residues of the herbicide clopyralid: (3,6-dichloro-2-pyrindinecarboxylic acid), in or on canola, seed at 3.0 ppm; canola, meal at 6.0 ppm; flax, seed at 3.0 ppm; flax, meal at 6.0 ppm; rapeseed, seed at 3.0 ppm; rapeseed, forage at 3.0 ppm; and mustard greens at 5.0 ppm upon the approval of the aforementioned tolerances under “New Tolerance”. Contact: Laura Nollen, (703) 305-7390, e-mail address: nollen.laura@epa.gov.

2. PP 1F7886. (EPA-HQ-OPP-2011-0593). Valent U.S.A. Corporation, 1600 Riviera Ave., Suite 200, Walnut Creek, CA 94596, requests to remove the tolerances in 40 CFR 180.568 for residues of the herbicide flumioxazin, 2-[7-fluoro-3,4dihydro-3-oxo-4-(2-propynyl)-2H-1,4-benzoxazin-6-yl]-4,5,6,7-tetrahydro-1H-isoindole1,3(2H)-dione, in or on beans, dry seed at 0.05 ppm upon the approval of the tolerance on Crop Subgroup 6C under “New Tolerance”. Contact: Bethany Benbow, (703) 347-8072, e-mail address: benbow.bethany@epa.gov.

New Tolerance Exemption

1. PP 1E7858. (EPA-HQ-OPP-2011-0525). Joint Inerts Task Force, Cluster Support Team 5, EPA Company Number 84941, c/o CropLife America, 1156 15th St., NW., Suite 400, Washington, DC 20005, requests to establish an exemption from the requirement of a tolerance for residues of following descriptor and compounds under 40 CFR 180.910 pre- and post-harvest uses not to exceed 7% in pesticide formulations when used as a pesticide inert: [[α]-[p-(1,1,3,3-Tetramethylbutyl)phenyl]-[ω]-hydroxypoly (oxyethylene) produced by the condensation of 1 mole of p-(1,1,3,3- tetramethylbutyl) phenol with a range of 1-14 or 30-70 moles of ethylene oxide: If a blend of products is used, the average range number of moles of ethylene oxide reacted to produce any product that is a component of the blend shall be in the range of 1-14 or 30-70 (Chemical Name (CAS No.)): Poly (oxy-1, 2-ethanediyl), α-[4-(1,1,3,3-tetramethylbutyl) phenyl]-ω-hydroxy- (9036-19-5); Poly (oxy-1, 2-ethanediyl), α-[4-(1,1,3,3-tetramethylbutyl) phenyl]-ω-hydroxy-] (9002-93-1). The petitioner believes no analytical method is needed because this information is not required for the establishment of a tolerance exemption. Contact: Kerry Leifer, (703) 308-8811, e-mail address: leifer.kerry@epa.gov.

2. PP 1E7860. (EPA-HQ-OPP-2011-0526). Joint Inerts Task Force, Cluster Support Team 9, EPA Company Number 84943, c/o CropLife America, 1156 15th St., NW., Suite 400, Washington, DC 20005, requests to establish an exemption from the requirement of a tolerance for residues of Nonylphenol Ethoxylate Phosphate and Sulfate Derivatives (NPEPSD) under the following descriptors and compounds under 40 CFR 180.910 (pre- and post-harvest uses) and 40 CFR 180.930 (animal uses) not to exceed 7% in pesticide formulations when used as a pesticide inert ingredient:

NPE Phosphate Derivatives (NPEPD): α-(p-Nonylphenyl)-ω-hydroxypoly(oxyethylene) mixture of dihydrogen phosphate and mono hydrogen phosphate esters and the corresponding ammonium, calcium, magnesium, monoethanolamine, potassium, sodium, and zinc salts of the phosphate esters; the nonyl group is a propylene trimer isomer and the poly(oxyethylene) content averages 4-14 moles or 30 moles (Chemical Name (CAS No.)): Poly (oxy-1, 2-ethanediyl), α-(nonylphenyl)-ω-hydroxy-, phosphate (51811-79-1); Ethanol, 2-amino-, compd. with α-(nonylphenyl)-ω-hydroxypoly(oxy-1,2-ethanediyl) phosphate (59139-23-0); Poly(oxy-1,2-ethanediyl), α-(nonylphenyl)-ω-hydroxy-, phosphate, magnesium salt Poly(oxy-1,2-ethanediyl), α-(nonylphnyl)-ω-hydroxy-, phosphate, magnesium salt (67922-57-0); Poly(oxy-1,2-ethanediyl), α-(4-nonylphenyl)-ω-hydroxy-, phosphate, sodium salt (68412-53-3); Poly(oxy-1,2-ethanediyl), α-(4-nonylphenyl)-ω-hydroxy-, phosphate, sodium salt (68553-97-9); Poly(oxy-1,2-ethanediyl), α-(4-nonylphenyl)-ω-hydroxy-, phosphate, sodium salt (68553-97-9); Poly(oxy-1,2-ethanediyl), α-(nonylphenyl)-ω-hydroxy-, branched, phosphate, sodium salt (68954-84-7); Poly(oxy-1,2-ethanediyl), α-(nonylphenyl)-ω-hydroxy-, phosphate, calcium salt (99821-14-4); Poly(oxy-1,2-ethanediyl), α-(4-nonylphenyl)-ω-hydroxy-, branched, phosphates (152143-22-1); Poly(oxy-1,2-ethanediyl), α-(4-nonylphenyl)-ω-hydroxy-, phosphate (51609-41-7); Poly(oxy-1,2-ethanediyl), α-(nonylphenyl)-ω-hydroxy-, phosphate, sodium salt (37340-60-6); Poly(oxy-1,2-ethanediyl), α-phosphono-ω-(4-nonylphenoxy)-, dipotassium salt (106151-63-7); Poly(oxy-1,2-ethanediyl), α-(nonylphenyl)-ω-hydroxy-, branched, phosphates, potassium salts (68584-47-4); Poly(oxy-1,2-ethanediyl), α-(nonylphenyl)-ω-hydroxy-, phosphate-, potassium salt (52503-15-8); Polyphosphoric acids, esters with polyethylene glycol nonylphenyl ether (68458-49-1).

NPE Sulfate Derivatives (NPESD): α-(p-nonylphenol)-ω-hydroxypoly(oxyethylene) sulfate, ammonium, calcium, magnesium, potassium, sodium, and zinc salts the nonyl group is propylene trimer isomer and the poly(oxyethylene) content averages 4 moles (Chemical Name (CAS No.)): Poly (oxy-1, 2-ethanediyl), α-sulfo-ω-(nonylphenoxy), sodium salt (9014-90-8); Poly (oxy-1, 2-ethanediyl), α-sulfo-ω-(nonylphenoxy), ammonium salt (9051-57-4); Poly (oxy-1, 2-ethanediyl), α-sulfo-ω-(nonylphenoxy), acid (9081-17-8); Poly (oxy-1, 2-ethanediyl), α-sulfo-ω-(nonylphenoxy), branched, ammonium salt (68649-55-8); Poly (oxy-1, 2-ethanediyl), α-sulfo-ω-(nonylphenoxy), branched (68891-33-8).

The petitioner believes no analytical method is needed because this information is not required for the establishment of a tolerance exemption. Contact: Kerry Leifer, (703) 308-8811, e-mail address: leifer.kerry@epa.gov.

3. PP 1E7875. (EPA-HQ-OPP-2011-0583). Akzo Nobel Surface Chemistry, LLC, 909 Mueller Ave., Chattanooga, TN 37406, requests to establish an exemption from the requirement of a tolerance for residues of 2-propanoic acid, 2-methyl-, polymer with methyl 2-methyl-2-propenoate and alpha-(2-methyl-1-oxo-2-propen-1-yl)-omega-methoxypoly(oxy-1,2-ethanediyl, graft (CAS No. 111740-36-4) when used as a pesticide inert ingredient as a dispersant in pesticide formulations under 40 CFR 180.960. This petition requests the elimination of the need to establish a maximum permissible level for residues of methacrylic acid-methyl methacrylate-polyethylene glycol monomethyl ether methacrylate graft copolymer in or on all raw agricultural commodities. The petitioner believes no analytical method is needed because this information is generally not required when all criteria for polymer exemption per 40 CFR 723.250 are met. Akzo Nobel is petitioning for an exemption from the requirement of a tolerance without any numerical limitations. Contact: Alganesh Debesai, (703) 308-8353, e-mail address: debesai.alganesh@epa.gov.

4. PP 1E7879. (EPA-HQ-OPP-2011-0587). Loveland Products, Inc., 3005 Rocky Mountain Ave., Loveland, CO 80538, requests to establish an exemption from the requirement of a tolerance for residues of 2-hydroxy-4-methoxybenzophenone (common name) (HMB), (CAS nomenclature: methanone, (2-hydroxy-4-methoxyphenyl) phenyl-; CAS No. 131-57-7) when used as a pesticide inert ingredient as a UV-stabilizer at no more than 25% in pesticide formulations under 40 CFR 180.920 (pre-harvest uses). This petition proposes to establish exemptions from the requirement of a tolerance for residues of 2-hydroxy-4-methoxybenzophenone (HMB) in or on all raw agricultural commodities. The petitioner believes no analytical method is needed because the petition proposes to establish exemptions from the requirement of a tolerance and no analytical method is generally required for establishment of a tolerance exemption. Contact: Deirdre Sunderland, (703) 603-0851, e-mail address: sunderland.deirdre@epa.gov.

5. PP 1E7880. (EPA-HQ-OPP-2011-0606). Clariant Corporation, 4000 Monroe Rd., Charlotte, NC 28205, requests to establish an exemption from the requirement of a tolerance for residues of Poly(oxy-1,2-ethanediyl), α-hydro-ω-hydroxy-, Mn 17000 amu and CAS No. 25322-68-3 under 40 CFR 180.960 when used as a pesticide inert ingredient in pesticide formulations as a solubilizer without limitations. Clariant Corporation is petitioning that Poly(oxy-1,2-ethanediyl), α-hydro-ω-hydroxy- be exempt from the requirement of a tolerance based upon the definition of a low-risk polymer under 40 CFR 723.250. Therefore, an analytical method to determine residues on treated crops is not relevant. Contact: Elizabeth Fertich, (703) 347-8560, e-mail address: fertich.elizabeth@epa.gov.

List of Subjects

Environmental protection, Agricultural commodities, Feed additives, Food additives, Pesticides and pests, Reporting and recordkeeping requirements.

Dated: August 17, 2011.
Lois Rossi,
Director, Registration Division, Office of Pesticide Programs.

[FR Doc. 2011-21676 Filed 8-25-11; 8:45 am]

BILLING CODE 6560-50-P